DEPARTMENT OF COMMERCE

International Trade Administration

[A-570-900]

Diamond Sawblades and Parts Thereof From the People's Republic of China: Rescission of Antidumping Duty Administrative Review, in Part; 2016-2017

AGENCY: Enforcement and Compliance, International Trade Administration, Department of Commerce.

SUMMARY: The Department of Commerce (Commerce) is rescinding the administrative review, in part, on diamond sawblades and parts thereof (diamond sawblades) from the People's Republic of China (China) for the period of review (POR) November 1, 2016, through October 31, 2017.

DATES: Applicable April 30, 2018.

FOR FURTHER INFORMATION CONTACT: Joshua Poole, AD/CVD Operations, Office I, Enforcement and Compliance, International Trade Administration, U.S. Department of Commerce, 1401 Constitution Avenue NW, Washington, DC 20230; telephone: (202) 482-1293.

SUPPLEMENTARY INFORMATION:

Background

On November 1, 2017, Commerce published a notice of opportunity to request an administrative review of the antidumping duty order on diamond sawblades from China for the POR November 1, 2016, through October 31, 2017.¹ On January 11, 2018, in response to timely requests from the petitioner,² Husqvarna (Hebei) Co., Ltd. (Husqvarna), and Danyang NYCL Tools Manufacturing Co., Ltd (Danyang NYCL), and in accordance with section 751(a) of the Tariff Act of 1930, as amended (the Act), and 19 CFR 351.221(c)(1)(i), we initiated an administrative review of the antidumping duty order on diamond sawblades from China with respect to 45 companies, including Bosun Tools Co., Ltd. (Bosun), Danyang NYCL, and Husqvarna.³ On March 7, 2018 and March 8, 2018, Husqvarna and the petitioner respectively timely withdrew their requests for an administrative review for Husqvarna.⁴ On March 22, 2018, Danyang NYCL and the petitioner timely withdrew their requests for an administrative review for Danyang NYCL.⁵ On April 16, 2018, the petitioner timely withdrew its request for administrative review for Bosun.⁶

¹ See Antidumping or Countervailing Duty Order, Finding, or Suspended Investigation; Opportunity to Request Administrative Review, 82 FR 50620 (November 1, 2017).

² The petitioner in this review is Diamond Sawblades Manufacturers' Coalition.

³ See Initiation of Antidumping and Countervailing Duty Administrative Reviews, 83 FR 1329 (January 11, 2018).

⁴ See Letters of withdrawals of requests for review from Husqvarna and the petitioner dated March 7, 2018 and March 8, 2018, respectively.

⁵ See Letters of withdrawals of requests for review from Danyang NYCL and the petitioner dated March 22, 2018.

⁶ See Letter of withdrawal of request for review from the petitioner dated April 16, 2018. Commerce exercised its discretion to toll all deadlines affected by the closure of the Federal Government from January 20 through 22, 2018. All deadlines in this segment of the proceeding have been extended by 3 days. If the new deadline falls on a non-business day, in accordance with Commerce's practice, the deadline will become the next business day. See Memorandum, “Deadlines Affected by the Shutdown of the Federal Government,” dated January 23, 2018.

Rescission of Administrative Review in Part

Pursuant to 19 CFR 351.213(d)(1), Commerce will rescind an administrative review “in whole or in part, if a party that requested a review withdraws the request within 90 days of the date of publication of notice of initiation of the requested review.” Because the petitioner, Husqvarna, and Danyang NYCL withdrew their requests for review within the 90-day time limit, and because we received no other requests for review of Bosun, Danyang NYCL, and Husqvarna, we are rescinding the administrative review of the order, in part, with respect to Bosun, Danyang NYCL, and Husqvarna.

Assessment

Commerce will instruct U.S. Customs and Border Protection (CBP) to assess antidumping duties on all appropriate entries. For Bosun, Danyang NYCL, and Husqvarna, for which the review is rescinded, antidumping duties shall be assessed at the rate equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: April 25, 2018.
James Maeder,
Associate Deputy Assistant Secretary for Antidumping and Countervailing Duty Operations, performing the duties of Deputy Assistant Secretary for Antidumping and Countervailing Duty Operations.

[FR Doc. 2018-09047 Filed 4-27-18; 8:45 am]

BILLING CODE 3510-DS-P